SECURITIES AND EXCHANGE COMMISSION

[Release No. 34-64264; File No. SR-FINRA-2011-008]

Self-Regulatory Organizations; Financial Industry Regulatory Authority, Inc.; Notice of Designation of a Longer Period for Commission Action on Proposed Rule Change To Require Public Disclosure of Any Access or Post-Transaction Fees for Executions Against a Public Quotation in an OTC Equity Security

April 8, 2011.

On February 18, 2011, the Financial Industry Regulatory Authority, Inc. (“FINRA”) filed with the Securities and Exchange Commission (“Commission”), pursuant to Section 19(b)(1) of the Securities Exchange Act of 1934 (“Act”) ¹ and Rule 19b-4 thereunder,² a proposed rule change to require each member to disclose on its website any fees imposed against its published quotation in any OTC Equity Security, consistent with FINRA Rule 6450 (Restrictions on Access Fees). The proposed rule change was published for comment in the Federal Register on March 3, 2011.³ The Commission received two comments on the proposal.⁴

¹ 15 U.S.C. 78s(b)(1).

² 17 CFR 240.19b-4.

³ See Securities Exchange Act Release No. 63960 (February 24, 2011), 76 FR 11829 (“Notice”).

⁴ See Letter from Daniel Zinn, General Counsel, OTC Markets Group, Inc., to Elizabeth M. Murphy, Secretary, Commission, dated March 22, 2011 (“OTC Markets Letter”) and letter from Kimberly Unger, Executive Director, The Security Traders Association of New York, Inc. to Elizabeth M. Murphy, Secretary, Commission, dated April 6, 2011 (“STANY Letter”).

Section 19(b)(2) of the Act ⁵ provides that, within 45 days of the publication of notice of the filing of a proposed rule change, or within such longer period up to 90 days as the Commission may designate if it finds such longer period to be appropriate and publishes its reasons for so finding or as to which the self-regulatory organization consents, the Commission shall either approve the proposed rule change, disapprove the proposed rule change, or institute proceedings to determine whether the proposed rule change should be disapproved. The 45th day for this filing is April 17, 2011.

⁵ 15 U.S.C. 78s(b)(2).

The Commission is hereby extending the 45-day period for Commission action on the proposed rule change. The Commission finds that it is appropriate to designate a longer period within which to take action on the proposed rule change. The extension of time will ensure that the Commission has sufficient time to consider and take action on FINRA's proposal in light of, among other things, the comments received on the proposal.

Accordingly, pursuant to Section 19(b)(2)(A)(ii)(I) of the Act ⁶ and for the reasons stated above, the Commission designates May 25, 2011, as the date by which the Commission should either approve or disapprove, or institute proceedings to determine whether to disapprove, the proposed rule change File No. SR-FINRA-2011-008.

⁶ 15 U.S.C. 78s(b)(2)(A)(ii)(I).

⁷ 17 CFR 200.30-3(a)(31).

For the Commission, by the Division of Trading and Markets, pursuant to delegated authority.⁷
Cathy H. Ahn,
Deputy Secretary.

[FR Doc. 2011-8916 Filed 4-12-11; 8:45 am]

BILLING CODE 8011-01-P